DEPARTMENT OF JUSTICE

Antitrust Division

Notice Pursuant to The National Cooperative Research and Production Act of 1993—The Digital Dollar Project, Inc.

Notice is hereby given that, on October 26, 2022 pursuant to Section 6(a) of the National Cooperative Research and Production Act of 1993, 15 U.S.C. 4301 et seq. (“the Act”). The Digital Dollar Project, Inc. (“DDP”) has filed written notifications simultaneously with the Attorney General and the Federal Trade Commission disclosing changes in membership. The notifications were filed for the purpose of extending the Act's provisions limiting the recovery of antitrust plaintiffs to actual damages under specified circumstances. Specifically, Digital Impact Now LLC, Melbourne, FL; EMTECH, New York, NY; Ripple Labs, Inc., New York, NY; Digital Euro Association, Frankfurt am Main, GERMANY; and MITRE, McLean, VA have been added as parties to this venture.

No other changes have been made in either the membership or planned activity of the group research project. Membership in this group research project remains open and DDP intends to file additional written notifications disclosing all changes in membership.

On June 9, 2022, the Digital Dollar Project filed its original notification pursuant to Section 6(a) of the Act.

The Department of Justice published a notice in the Federal Register pursuant to Section 6(b) of the Act on August 1, 2022 (87 FR 47007).

The last notification was filed with the Department on July 21, 2022. A notice was published in the Federal Register pursuant to Section 6(b) of the Act on November 7, 2022 (87 FR 67068).

Suzanne Morris,
Deputy Director of Civil Enforcement Operations, Antitrust Division.

[FR Doc. 2023-01334 Filed 1-23-23; 8:45 am]

BILLING CODE P